DEPARTMENT OF LABOR

Employment and Training Administration

[NAFTA-5041]

Seagate Technology, Inc., OKC 1020 Division, Oklahoma City, Oklahoma; Dismissal of Application for Reconsideration

Pursuant to 29 CFR 90.18(C) an application for administrative reconsideration was filed with the Director of the Division of Trade Adjustment Assistance for workers at Seagate Technology, Inc., OKC 1020 Division, Oklahoma City, Oklahoma. The application contained no new substantial information which would bear importantly on the Department's determination. Therefore, dismissal of the application was issued.

NAFTA-5041; Seagate Technology, Inc., OKC 1020 Division, Oklahoma City, Oklahoma (January 15, 2002)

Signed at Washington, DC, this 24th day of January, 2002.
Edward A. Tomchick,
Director, Division of Trade Adjustment Assistance.

[FR Doc. 02-2687 Filed 2-4-02; 8:45 am]

BILLING CODE 4510-30-M